DEPARTMENT OF TRANSPORTATION

Federal Aviation Administration

14 CFR Part 39

[Docket No. FAA-2007-28159; Directorate Identifier 2006-NM-257-AD]

RIN 2120-AA64

Airworthiness Directives; Airbus Model A300-600 Series Airplanes and Model A310 Series Airplanes

AGENCY: Federal Aviation Administration (FAA), Department of Transportation (DOT).

ACTION: Notice of proposed rulemaking (NPRM).

SUMMARY: The FAA proposes to supersede an existing airworthiness directive (AD) that applies to certain Airbus Model A300-600, A310-200, and A310-300 series airplanes. The existing AD currently requires inspecting for certain serial numbers on elevators, and doing a detailed inspection, visual inspection with a low-angle light, and tap-test inspection of the upper and lower surfaces of the external skins on certain identified elevators for any damage (i.e., debonding of the graphite fiber reinforced plastic/Tedlar film protection, bulges, debonding of the honeycomb core to the carbon fiber reinforced plastic, abnormal surface reflections, and torn-out plies), and doing corrective actions if necessary. This proposed AD would also require inspecting for damage of the identified elevators in accordance with a new repetitive inspection program, at new repetitive intervals; and would provide an optional terminating action for the repetitive inspections. This proposed AD results from reports of damage caused by moisture/water inside the elevator. We are proposing this AD to detect and correct debonding of the skins on the elevators, which could cause reduced structural integrity of an elevator and reduced controllability of the airplane.

DATES: We must receive comments on this proposed AD by June 15, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9:00 a.m. and 5:00 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2007-28159; Directorate Identifier 2006-NM-257-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On December 15, 2005, we issued AD 2005-26-17, amendment 39-14438 (70 FR 77301, December 30, 2005), for certain Airbus Model A300-600, A310-200, and A310-300 series airplanes. That AD requires inspecting for certain serial numbers on elevators, and doing a detailed inspection, visual inspection with a low-angle light, and tap-test inspection of the upper and lower surfaces of the external skins on certain identified elevators for any damage (i.e., debonding of the GFRP (graphite fiber reinforced plastic)/Tedlar film protection, bulges, debonding of the honeycomb core to the carbon fiber reinforced plastic, abnormal surface reflections, and torn-out plies), and doing corrective actions if necessary. That AD resulted from reports of debonded skins on the elevators. We issued that AD to detect and correct debonding of the skins on the elevators, which could cause reduced structural integrity of an elevator and reduced controllability of the airplane.

Actions Since Existing AD Was Issued

The preamble to AD 2005-26-17 specified that we considered the requirements “interim action” and that the manufacturer was developing a modification to address the unsafe condition. That AD explained that we may consider further rulemaking if a modification is developed, approved, and available. The manufacturer now has developed such a modification, and we have determined that further rulemaking is indeed necessary; this proposed AD follows from that determination.

In addition, the European Aviation Safety Agency (EASA), which is the Technical Agent for the Member States of the European Union, has issued EASA airworthiness directive 2006-0289, dated November 2, 2006, which renders mandatory a new scheduled inspection program to address the unsafe condition.

Relevant Service Information

Airbus has issued Service Bulletin A300-55-6039 (for Model A300-600 series airplanes) and Service Bulletin A310-55-2040 (for Model A310 series airplanes), both including Appendix 01, both dated June 7, 2006. The service bulletins describe procedures for determining the serial number of the elevator. For elevators with an affected serial number, the service bulletins describe procedures for the following actions:

• A repetitive detailed visual inspection of the external surfaces of the GRFP/Tedlar film protection on the upper and lower skin panels to detect damage (breaks, disbonding, bulges, cracks, plies torn out or peeled off, discontinuity) of the film. For any damage, the service bulletins specify the related investigative action of a local tap-test for disbonding of the bulge and the surrounding area. The service bulletins specify the corrective action for disbonding as removing any disbonded GFRP/Tedlar film before doing the thermographic inspection.

• A repetitive thermographic inspection of the upper and lower skin panels to detect any potential water indication inside the panel's honeycomb core; and related investigative and corrective actions if necessary.

• Related investigative and corrective actions following the thermographic inspection are:

○ For no water indication: Evaluation of the external GFRP/Tedlar film protection for damage (debonding, bulges, cracks, or plies torn out or peeled off), and repair with pore filler if necessary.

○ For water indication: A tap-test on the area to detect damage and honeycomb debonding; do a damage and repair evaluation according to instructions in the structural repair manual (SRM); evaluation of the external GFRP/Tedlar film for damage according to the SRM; and repair with pore filler and/or replacement of the honeycomb core if necessary, or the optional terminating action (described below). If any damage exceeds certain limits specified in the SRM, the service bulletins specify contacting Airbus for repair instructions.

• Reporting inspection results to Airbus.

• Repairing the external GFRP/Tedlar film with pore filler.

Airbus has also issued Service Bulletin A300-55-6040 (for Model A300-600 series airplanes) and Service Bulletin A310-55-2041 (for Model A310 series airplanes), both dated June 5, 2006. The service bulletins describe procedures for replacing the external GFRP/Tedlar film with an application of pore filler on the whole elevator external surface. Doing this replacement eliminates the need for the repetitive inspections.

Accomplishing the actions specified in the service information is intended to adequately address the unsafe condition. The EASA mandated the service information and issued EASA airworthiness directive 2006-0289, dated November 2, 2006, to ensure the continued airworthiness of these airplanes in the European Union.

FAA's Determination and Requirements of the Proposed AD

These airplane models are manufactured in France and type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2005-26-17 and would retain the requirements of the existing AD. This proposed AD would also require accomplishing the actions specified in the service information described previously, except as discussed under “Difference between the Proposed AD and the EASA Airworthiness Directive.”

Difference Between the Proposed AD and the EASA Airworthiness Directive

The EASA airworthiness directive specifies to contact the manufacturer for instructions on how to repair certain conditions, but this proposed AD would require repairing those conditions using a method that we or the EASA (or its delegated agent) approve. In light of the type of repair that would be required to address the unsafe condition, and consistent with existing bilateral airworthiness agreements, we have determined that, for this proposed AD, a repair we or the EASA approve would be acceptable for compliance with this proposed AD.

Changes to Existing AD

We have clarified the applicability of the existing AD to more closely match the language of the applicability of the EASA airworthiness directive.

Paragraph (g) of the existing AD specifies making repairs or doing alternative inspections using a method approved by either the FAA or the Direction Générale de l'Aviation Civile (DGAC) (or its delegated agent). The EASA has assumed responsibility for the airplane models subject to this proposed AD. Therefore, we have revised paragraph (g) of this proposed AD to specify making repairs or doing alternative inspections using a method approved by the FAA, the DGAC (or its delegated agent), or the EASA (or its delegated agent).

Clarification of Inspection Terminology

In this proposed AD, the “detailed visual inspection” specified in the Airbus service bulletin is referred to as a “detailed inspection.” We have included the definition for a detailed inspection in a note in the proposed AD.

Interim Action

We consider this proposed AD interim action. We are currently considering requiring the optional terminating action of replacing the external GFRP/Tedlar film with an application of pore filler on the whole elevator external surface, which would constitute terminating action for the repetitive inspections required by this AD action.

Costs of Compliance

This proposed AD would affect about 142 airplanes of U.S. registry. The following table provides the estimated costs for U.S. operators to comply with this proposed AD. The average labor rate is $80 per work hour.

Estimated Costs
Action | Work hours | Parts | Cost per airplane | Fleet cost
Inspection for serial number (required by AD 2005-26-17) | 1 | $0 | $80 | $11,360.
Repetitive inspections (required by AD 2005-26-17) | 3 | 0 | $240, per inspection cycle | $34,080, per inspection cycle.
New repetitive inspection program (new proposed action) | Between 8 and 12 | 0 | Between $640 and $960, per inspection cycle | Between $90,880 and $136,320, per inspection cycle.
Replacement (optional terminating/new proposed action) | 48 | 90 | $3,930 | $558,060.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14438 (70 FR 77301, December 30, 2005) and adding the following new airworthiness directive (AD):

Airbus: Docket No. FAA-2007-28159; Directorate Identifier 2006-NM-257-AD.

Comments Due Date

(a) The FAA must receive comments on this AD action by June 15, 2007.

Affected ADs

(b) This AD supersedes AD 2005-26-17.

Applicability

(c) This AD applies to Airbus Model A300-600 series airplanes and Model A310 series airplanes, certificated in any category, equipped with carbon fiber reinforced plastic (CFRP) elevator skin panels, modified in accordance with Airbus Service bulletin A310-55-2019 or A300-55-6016 (Airbus modification 10861) with graphite fiber reinforced plastic (GFRP)/Tedlar film as external protection, with part numbers (P/Ns) and serial numbers (S/Ns) identified in Airbus Service Bulletin A300-55-6039 or A310-55-2040, both dated June 7, 2006.

Unsafe Condition

(d) This AD results from reports of damage caused by moisture/water inside the elevator. We are issuing this AD to detect and correct debonding of the skins on the elevators, which could cause reduced structural integrity of an elevator and reduced controllability of the airplane.

Compliance

(e) You are responsible for having the actions required by this AD performed within the compliance times specified, unless the actions have already been done.

Restatement of the Requirements of AD 2005-26-17

Inspection for Serial Number, Repetitive Inspections, and Corrective Actions

(f) Within 600 flight hours after February 3, 2006 (the effective date of AD 2005-26-17), inspect to determine if the S/N of the elevator is listed in Airbus All Operators Telex (AOT) A300-600-55A6032, dated June 23, 2004, or Airbus Service Bulletin A300-55-6039, dated June 7, 2006 (for Model A300-600 series airplanes); or in Airbus AOT A310-55A2033, dated June 23, 2004, or Airbus Service Bulletin A310-55-2040, dated June 7, 2006 (for Model A310 series airplanes).

(1) If the S/N does not match any S/N on either AOT or service bulletin S/N list, no further action is required by this paragraph.

(2) If the S/N matches a S/N listed in an AOT or service bulletin, before further flight, do the actions listed in Table 1 of this AD, and any corrective action as applicable, in accordance with Airbus AOT A300-600-55A6032, dated June 23, 2004; or Airbus AOT A310-55A2033, dated June 23, 2004; as applicable. Repeat the inspections thereafter at intervals not to exceed 600 flight hours until the inspection required by paragraph (j) of this AD is accomplished. Do applicable corrective actions before further flight.

Table 1.—Repetitive Inspections
Do a— | Of the— | For any—
Detailed inspection | Elevator upper and lower external skin surfaces | Damage (i.e., breaks in the graphite fiber reinforced plastic (GFRP)/Tedlar film protection, debonded GFRP/Tedlar film protection, bulges, torn-out plies).
Visual inspection with a low-angle light | Elevator upper and lower external skin surfaces | Differences in the surface reflection.
Tap-test inspection | Upper and lower external skin surfaces of the honeycomb core panels in the elevator | Honeycomb core that has debonded from the carbon fiber reinforced plastic (CFRP).

Note 1: For the purposes of this AD, a detailed inspection is “an intensive examination of a specific item, installation, or assembly to detect damage, failure, or irregularity. Available lighting is normally supplemented with a direct source of good lighting at an intensity deemed appropriate. Inspection aids such as mirrors, magnifying lenses, etc. may be necessary. Surface cleaning and elaborate procedures may be required.”

Repair Approval

(g) Where the AOT specified in paragraph (f) of this AD says to contact the manufacturer for repair instructions, or an alternative inspection method: Before further flight, repair or do the alternative inspection method according to a method approved by either the Manager, International Branch, ANM-116, FAA, Transport Airplane Directorate; or the Direction Générale de l'Aviation Civile (DGAC) (or its delegated agent), or the European Aviation Safety Agency (EASA) (or its delegated agent).

Parts Installation

(h) As of February 3, 2006, no carbon fiber elevator having part number (P/N) A55276055000 (left-hand side) or P/N A55276056000 (right-hand side) may be installed on any airplane unless it is inspected according to paragraph (f) of this AD; or according to paragraph (j) of this AD.

No Reporting Required for AOT Inspections

(i) Although the AOTs referenced in paragraph (f) of this AD specify to submit inspection reports to the manufacturer, this AD does not include that requirement.

New Requirements of This AD

Revised Inspection Program

(j) For airplanes with affected S/Ns identified in paragraph (f) of this AD: Except as provided by paragraph (k) of this AD, within 2,000 flight cycles or 18 months after the effective date of this AD, whichever occurs earlier, do a detailed inspection of the external surfaces of the GRFP/Tedlar film protection on the upper and lower skin panels to detect damage of the film, and a thermographic inspection of the upper and lower skin panels to detect any potential water indication inside the panel's honeycomb core; do all applicable related investigative/corrective actions before further flight; and repair the external GFRP/Tedlar film with pore filler. Do all actions in accordance with the Accomplishment Instructions of Service Bulletin A300-55-6039 (for Model A300-600 series airplanes), or Service Bulletin A310-55-2040 (for Model A310 series airplanes); both including Appendix 01, both dated June 7, 2006. Repeat the inspections thereafter at intervals not to exceed 2,000 flight cycles or 18 months, whichever occurs earlier. Where the service bulletin says to contact the manufacturer for repair instructions: Before further flight, repair or do the alternative inspection method according to a method approved by either the Manager, International Branch, ANM-116, FAA, Transport Airplane Directorate; or the European Aviation Safety Agency (EASA) (or its delegated agent). Doing the inspections in accordance with this paragraph terminates the repetitive inspection requirements of paragraph (f) of this AD.

(k) The maximum time between the inspection required by paragraph (f) of this AD and the first inspection done in accordance with paragraph (j) of this AD must be no greater than: For the thermographic inspection, 2,500 flight hours after the last thermographic inspection done in accordance with the applicable AOT specified in paragraph (f) of this AD; and for the tap test, 600 flight hours after the last tap test inspection done in accordance with paragraph (f) of this AD.

Report

(l) Submit a report of the findings (both positive and negative) of the inspections required by paragraph (j) of this AD to Airbus, 1 Rond Point Maurice Bellonte, 31707 Blagnac Cedex, France, at the applicable time specified in paragraph (l)(1) or (l)(2) of this AD. The report must include the information in Appendix 01 of Airbus Service Bulletin A300-55-6039, or Service Bulletin A310-55-2040, both dated June 7, 2006, as applicable. Under the provisions of the Paperwork Reduction Act (44 U.S.C. 3501 et seq.), the Office of Management and Budget (OMB) has approved the information collection requirements contained in this AD and has assigned OMB Control Number 2120-0056.

(1) If the inspection was done after the effective date of this AD: Submit the report within 30 days after the inspection.

(2) If the inspection was accomplished prior to the effective date of this AD: Submit the report within 30 days after the effective date of this AD.

Optional Terminating Action

(m) Replacing the external GFRP/Tedlar film with an application of pore filler on the whole elevator external surface in accordance with Airbus Service Bulletin A300-55-6040 (for Model A300-600 series airplanes), or Service Bulletin A310-55-2041 (for Model A310 series airplanes), both dated June 5, 2006, terminates the repetitive inspection requirements of paragraph (j) of this AD, provided the replacement is done before further flight after accomplishment of Service Bulletins A310-55-2040 and A300-55-6039, both dated June 7, 2006.

Alternative Methods of Compliance (AMOCs)

(n)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) Alternative methods of compliance, approved previously in accordance with AD 2005-26-17, are approved as alternative methods of compliance with the corresponding provisions of this AD.

Related Information

(o) EASA airworthiness directive 2006-0289, dated November 2, 2006, also addresses the subject of this AD.

Issued in Renton, Washington, on May 7, 2007.
Stephen P. Boyd,
Acting Manager, Transport Airplane Directorate, Aircraft Certification Service.

[FR Doc. E7-9391 Filed 5-15-07; 8:45 am]

BILLING CODE 4910-13-P